DEPARTMENT OF ENERGY

Federal Energy Regulatory Commission

[Docket No. CP01-377-000]

Dominion Transmission, Inc.; Notice of Application

June 8, 2001.

Take notice that on May 30, 2001, Dominion Transmission, Inc (DTI), 445 West Main Street, Clarksburg, West Virginia 26301, filed an application seeking authorization to continue operation of a storage well and related facilities pursuant to Section 7(b) of the Natural Gas Act (NGA) and Part 157 Commission's Rules and Regulations. DTI states that the purpose of the application is to obtain authorization to continue the operation of the UW-124 storage well and related facilities located in the North Summit Storage Pool at DTI's North Summit Storage Field, all as more fully set forth in the amendment which is open to the public for inspection.

DTI states that the issuance of a certificate of public convenience and necessity for the UW-124 well will allow more efficient and reliable operations by DTI and will avoid additional costs to DTI's customers. DTI also requests that intermediate decision procedures be omitted, pursuant to Rules 801 and 802 of the Commission's Rules of Practice and Procedure. This application may be viewed on the web at: www.rimswebl.ferc.us/rims.q~rp2~ilnto (call 202-208-222 for assistance).

Any questions regarding the application should be directed to Sean R. Sleigh, Certificates Manager, Dominion Transmission, Inc., 445 West Main Street, Clarksburg, WV 26301, at (304) 627-3462.

There are two to become involved in the Commission's review of this project. First, any person wishing to obtain legal status by becoming a party to the proceedings for this project should, on or before June 29, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filing made with the Commission and must mail a copy to the applicant and to every other party in the proceeding. Only parties to the proceeding can ask for court review of Commission order in the proceeding.

However, a person does not have a intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Interventions, comments, and protests may be filed electronically via the Internet in lieu of paper. See, 18 CFR 385.2001(a)(1)(iii) and the instructions on the Commission's web site at: www.ferc.gov/documents/makeanelectronicfiling/doorbell.htm.

If the Commission decides to set the application for a formal hearing before an Administrative Law Judge, the Commission will issue another notice describing that process. At the end of the Commission's review process, a final Commission order approving or denying a certificate will be issued.

David P. Boergers,
Secretary.

[FR Doc. 01-14994 Filed 6-13-01; 8:45 am]

BILLING CODE 6717-01-M